DEPARTMENT OF THE TREASURY

Environmental Assessment for Expansion of The Bureau of Engraving and Printing's Western Currency Facility; and Draft Finding of No Significant Impact

AGENCY: Bureau of Engraving and Printing, Department of the Treasury.

ACTION: Notice.

SUMMARY: The Department of the Treasury is issuing this notice to inform the public of the availability of the Environmental Assessment for the proposed expansion of the Bureau of Engraving and Printing's Western Currency Facility, and a draft Finding of No Significant Impact. The Environmental Assessment (EA) has been prepared to address the environmental impacts of the proposed expansion of the Western Currency Facility. This EA was prepared under the authority of 40 CFR parts 1500 et seq., the Council on Environmental Quality's National Environmental Policy Act implementing regulations.

DATES: Comments must be postmarked no later than May 9, 2001. Comments should be sent to the address given under FOR FURTHER INFORMATION CONTACT.

FOR FURTHER INFORMATION CONTACT: For a copy of the EA or for further information contact Ms. Colleen McKinney, Supervisory Chemical Engineer, Technical Support Division, Bureau of Engraving and Printing, 9000 Blue Mound Road, Fort Worth, Texas 76131-3304; telephone (817) 847-3820; fax (817) 847-3651. The EA is also available on the Bureau of Engraving and Printing's web site at http://www.moneyfactory.com/ftworth.pdf. Additionally, copies have been placed in the Fort Worth Central Library, 300 Taylor Street, Fort Worth, Texas, and the Saginaw Library, 333 West McLeroy Boulevard, Saginaw, Texas.

James J. Flyzik,
Acting Assistant Secretary for Management and Chief Information Officer.

[FR Doc. 01-8692 Filed 4-6-01; 8:45 am]

BILLING CODE 4840-01-U